ENVIRONMENTAL PROTECTION AGENCY

[Docket# EPA-RO4-SFUND-2011-0534, FRL-9427-6]

Caraleigh Phosphate and Fertlizer Works Superfund Site; Raleigh, Wake County, NC; Notice of Settlement

AGENCY: Environmental Protection Agency.

ACTION: Notice of settlement.

SUMMARY: Under Section 122(h)(1) of the Comprehensive Environmental Response, Compensation and Liability Act (CERCLA), the United States Environmental Protection Agency has entered into a settlement for reimbursement of past response costs concerning the Caraleigh Phosphate and Fertilizer Works Superfund Site located in Raleigh, Wake County, North Carolina for publication.

DATES: The Agency will consider public comments on the settlement until August 1, 2011. The Agency will consider all comments received and may modify or withdraw its consent to the settlement if comments received disclose facts or considerations which indicate that the settlement is inappropriate, improper, or inadequate.

ADDRESSES: Copies of the settlement are available from Ms. Paula V. Painter. Submit your comments, identified by Docket ID No. EPA-RO4-SFUND-2011-0534 or Site name Caraleigh Phosphate and Fertilizer Works Superfund Site by one of the following methods:

• http://www.regulations.gov: Follow the on-line instructions for submitting comments.

• http://www.epa.gov/region4/waste/sf/enforce.htm

• E-mail. Painter.Paula@epa.gov

FOR FURTHER INFORMATION CONTACT: Paula V. Painter at 404/562-8887.

Dated: June 13, 2011.
Anita L. Davis,
Chief, Superfund Enforcement & Information Management Branch, Superfund Division.

[FR Doc. 2011-16490 Filed 6-29-11; 8:45 am]

BILLING CODE 6560-50-P